DEPARTMENT OF THE INTERIOR

Bureau of Ocean Energy Management

[Docket No. BOEM-2025-0014]

Revising the Outer Continental Shelf Planning Areas To Address Jurisdictional Changes

AGENCY: Bureau of Ocean Energy Management, Interior.

ACTION: Revising outer continental shelf planning areas to address jurisdictional changes.

SUMMARY: This notice informs the public that the Bureau of Ocean Energy Management (BOEM) has made modifications to its Outer Continental Shelf (OCS) planning areas, which are geographic subdivisions of the OCS that BOEM uses for planning and administrative purposes for oil and gas activities. The OCS Lands Act (OCSLA) is the primary authority that provides BOEM with jurisdiction covering the entire OCS. As described below, changes to the boundaries of this jurisdiction have occurred since BOEM last established these subdivisions, and BOEM has modified its planning areas to account for these changes. As a result, the total number of OCS planning areas has increased from 26 to 27. The total acreage for the OCS planning areas has decreased, from approximately 1.72 billion acres to 1.68 billion acres, which does not include the OCS offshore the U.S. Territories and Hawaii. The U.S. Territories and Hawaii OCS areas, accounting for approximately 1.48 billion acres, are not considered for oil and gas leasing, so have not been designated as “planning areas.” Additional information can be found at https://www.boem.gov/oil-gas-energy/leasing/outer-continental-shelf.

FOR FURTHER INFORMATION CONTACT: Allison Stork, Leasing Policy and Management Division, telephone 571-265-2994 or email allison.stork@boem.gov.

SUPPLEMENTARY INFORMATION: In 1986, BOEM's predecessor agency, the Minerals Management Service, established four OCS regions that were originally comprised of 26 OCS planning areas. The four OCS regions are Alaska, Pacific, Gulf of America (formerly the Gulf of Mexico), and Atlantic. Administratively, the Pacific Region includes the State of Hawaii, although Hawaii has never had an OCS planning area.

An OCS planning area is a large, but more manageable contiguous portion of a broader OCS region that is considered an entity for BOEM planning and administrative purposes for oil and gas activities. OCS planning areas are also used in the analysis for development of the National OCS Oil and Gas Leasing Program, as well as for coordination with state and local governments. Not all of the OCS is subdivided into planning areas; the areas surrounding Hawaii and the U.S. territories are distinct and manageable portions of the OCS that do not require a planning area designation for differentiation purposes.

On December 21, 2023, the U.S. Department of State provided updated information in the Federal Register pertaining to the outer limits of the U.S. continental shelf in Public Notice 12244: Continental Shelf and Maritime Boundaries; Notice of Limits, 88 FR 88470 (Dec. 21, 2023).

Due to the U.S. Department of State's announcement regarding the outer limits of the continental shelf beyond 200 miles and amendments to OCSLA, BOEM has reassessed the jurisdictional limits of the OCS and recomputed acreages by OCS Region. The boundaries of the OCS Regions now extend from the Submerged Lands Act boundary to the outer limits of the continental shelf beyond 200 miles, or, as appropriate, to the 200-nautical-mile (nm) limit, Treaty Boundary, or Territorial Sea limit, depending on location. BOEM also updated the three Gulf of America OCS planning areas to reflect the name change announced in Executive Order 14172, “Restoring Names That Honor American Greatness” (January 20, 2025). A new planning area, the High Arctic Planning Area, has been created, increasing the total number of OCS planning areas from 26 to 27. Figure 1 shows the revised OCS jurisdiction, including the revised OCS planning areas and the remaining OCS areas not part of any planning area.

BILLING CODE 4340-98-P

Walter D. Cruickshank,
Acting Director, Bureau of Ocean Energy Management.

[FR Doc. 2025-07477 Filed 4-29-25; 8:45 am]

BILLING CODE 4340-98-C